DEPARTMENT OF HEALTH AND HUMAN SERVICES

Centers for Disease Control and Prevention

[60Day-05AB]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-498-1210 or send comments to Seleda Perryman, CDC Assistant Reports Clearance Officer, 1600 Clifton Road, MS-E11, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Public Health Injury Surveillance and Prevention Program—New—National Center for Injury Prevention and Control (NCIPC), Centers for Disease Control and Prevention (CDC).

Injury is the leading cause of death and disability among children and young adults. In 2000, more than 148,000 people died from injuries. Among them 43,354 died from motor-vehicle crashes; 29,350 died from suicide; 16,765 died from homicide; 13,322 died from unintentional falls; 12,757 from unintentional poisonings; 3,482 died from unintentional drowning; 3,377 died from fires. These external causes can often result in Traumatic Brain Injury (TBI), if not in death. Each year, an estimated 1.5 million Americans sustain a TBI. As a consequence of these TBI injuries 230,000 people are hospitalized and survive; 50,000 people die; and 80,000 to 90,000 people experience the onset of long-term disability. An estimated 5.3 million Americans live with a permanent TBI-related disability. However, this estimate does not include people with “mild” TBI who are seen in emergency departments or outpatient encounters, nor those who do not receive medical care. The annual economic burden of TBI in the United States has been estimated at $56.3 billion in 1995 dollars; however, human costs of the long-term impairments and disabilities associated with TBI are incalculable. Because many TBI related disabilities are not conspicuous deficits, they are referred to as the invisible or silent epidemic. These disabilities, arising from cognitive, emotional, sensory, and motor impairments, often permanently alter a person's ability to maximize daily life experiences and have profound effects on social and family relationships. To implement more effective programs to prevent these injuries, we need reliable data on their causes and risk factors. State surveillance data can be used to (1) identify trends in TBI incidence, (2) enable the development of cause-specific prevention strategies focused on populations at greatest risk, (3) and monitor the effectiveness of prevention programs.

This project will develop and maintain injury surveillance programs, including those with a focus on TBI and emergency department surveillance for mild TBI. The goal of this program is to develop quality data that will (a) be useful to State injury prevention and control programs, (b) enable states to develop injury indicators, (c) enable estimates of TBI incidence and public health consequences and (d) facilitate the use of TBI surveillance data to link individuals with information about TBI services.

Program recipients will collect information from pre-existing state data sets to calculate injury indicators in their state. In addition, a small group of states will review and abstract medical records to obtain data for variables that address severity of injury, circumstances and etiology of injury, and early outcome of injury in a large representative sample of reported cases of TBI-related hospitalization and mild TBI-related emergency department visits. The abstracted data will be stripped of all identifying information before submitting to CDC. CDC will fund up to 12 state health departments. The state health departments will use standardized data elements to abstract data. There will be no cost to respondents.

Respondents | Number of respondents | Number of responses/ respondent | Average burden/response (in hours) | Total burden hours
State Health Departments | 12 | 1000 | 1 | 12,000
Total |  |  |  | 12,000

Dated: October 8, 2004.
Alvin Hall,
Director, Management Analysis and Services Office, Centers for Disease Control and Prevention.

[FR Doc. 04-23142 Filed 10-14-04; 8:45 am]

BILLING CODE 4163-18-P